DEPARTMENT OF THE INTERIOR

Bureau of Land Management

[ID-400-1110-CB-241A]

Notice of Public Meeting, Recreation Subcommittee of the Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) subcommittee will meet as indicated below.

DATES: June 5, 2007. The meeting will start at 8 a.m. and end about 4 p.m. The public comment period will be from 1 p.m. to 1:30 p.m. The meeting will be held at Ruby's Inn located at 4825 N. Reserve in Missoula, MT. Missoula is a central location for subcommittee participants as well as public land users.

FOR FURTHER INFORMATION CONTACT: Lisa Wagner, RAC Coordinator, BLM Coeur d'Alene District, 3815 Schreiber Way, Coeur d'Alene, Idaho 83815 or telephone (208) 769-5014.

SUPPLEMENTARY INFORMATION: The recreation subcommittee is made up of four members from the 15-member Resource Advisory Council who will invite private and commercial floaters, powerboaters and other recreation users to help prioritize use of fees collected on the Main and Middle Fork Salmon rivers for the Salmon-Challis National Forest. This committee will make recommendations for prioritizing the expenditure of river use fees collected under the Salmon Rivers Recreation Fee Project. The subcommittee will present the information and make recommendations to the Coeur d'Alene District Resource Advisory Council at a later date. More information is available at www.blm.gov/rac/id/id_index.htm.

All meetings are open to the public. The public may present written comments to the Council in advance of or at the meeting. Each Council meeting will also have time allocated for receiving public comments. Depending on the number of persons wishing to comment and time available, the time for individual oral comments may be limited. Individuals who plan to attend and need special assistance, such as sign language interpretation or other reasonable accommodations, should contact the BLM as provided above.

Dated: April 30, 2007.
Lewis M. Brown,
District Manager.

[FR Doc. E7-8592 Filed 5-3-07; 8:45 am]

BILLING CODE 4310-GG-P